DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 12, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Assessing SNAP Participants' Fitness for Work.

OMB Control Number: 0584-NEW.

Summary of Collection: The Food and Nutrition Act of 2008 requires that Supplemental Nutritional Assistance Program (SNAP) participants between the ages 16 and 59 to meet certain work requirements, unless they are exempt or show good cause as to why they cannot work. Whether a participant is required to meet these work requirements is based upon a SNAP eligibility worker (caseworker) making a determination whether an individual is exempt from these work requirements, including a determination whether the individual is physically or mentally unfit for work. The U.S. Department of Agriculture (USDA) Food and Nutrition Service (FNS) offers general guidance and States develop their own policies and procedures with little input from FNS. States are given a great degree of latitude in making determinations regarding unfitness for work exemptions.

Need and Use of the Information: FNS has contracted with MEF Associates and its subcontractor, Mathematica, to conduct a study to better understand how States determine whether individuals are exempted from work requirements or have good cause for not meeting work requirements due to a physical or mental limitation. By surveying all 53 State SNAP Agencies, which include the States, the District of Columbia, the U.S. Virgin Islands, and Guam, and conducting in-depth case studies of four States, this study will provide FNS with valuable insights into how States develop and implement policies and procedures for making fitness for work determinations. This information can help FNS assess States' needs for technical assistance around fitness for work issues and identify lessons learned to share across all State SNAP Agencies.

Description of Respondents: State, Local, or Tribal government, Business or Other For Profit and Not for Profit, Individuals.

Number of Respondents: 408.

Frequency of Responses: Reporting: Annually.

Total Burden Hours: 412.

Ruth Brown,
Departmental Information Collection Clearance Officer.

[FR Doc. 2022-14893 Filed 7-12-22; 8:45 am]

BILLING CODE 3410-30-P